DEPARTMENT OF HOMELAND SECURITY

Transatlantic Aviation Industry Roundtable Committee (TAIR); Committee Establishment

AGENCY: Department of Homeland Security.

ACTION: Committee management; notice of committee establishment.

SUMMARY: The Secretary of Homeland Security (DHS Secretary) is establishing an advisory committee to address the security of the aviation sector and the furtherance of increased resiliency of the global aviation security environment. The Transatlantic Aviation Industry Roundtable (TAIR) will serve as a forum in which the Department of Homeland Security (DHS); the U.K. Home Office; private sector companies; and stakeholders in the aviation sector will engage and collaborate on matters and issues affecting transatlantic aviation security. The Secretary has determined the TAIR Committee will be exempt from the provisions of the Federal Advisory Committee Act (FACA).

Name of Committee: Transatlantic Aviation Industry Roundtable (TAIR).

FOR FURTHER INFORMATION CONTACT: Matt Hayden, Deputy Assistant Secretary, Private Sector Office, at (202) 282-8216.

SUPPLEMENTARY INFORMATION:

I. Background

The DHS Secretary, in consultation with the Secretary of State for the Home Office of the United Kingdom of Great Britain and Northern Ireland (Home Secretary), is establishing the TAIR to serve as a forum in which DHS; the U.K. Home Office; private sector companies; and stakeholders in the aviation sector discuss opportunities for enhanced coordination and furtherance of increased resiliency of the transatlantic aviation security environment.

Some of the issues to be reviewed by the TAIR will require access to, and discussion of, non-public classified information and other non-public law enforcement sensitive information. These matters include discussions on the current threat environment and potential enhancements to security technologies policy interventions, processes and procedures in aviation and overseas security development.

In recognition of the classified material utilized in TAIR activities and discussions, the DHS Secretary hereby exempts the TAIR from Public Law 92-463 (The Federal Advisory Committee Act, or “FACA”), 5 U.S.C. App).

II. Identifying Solutions

The Department recognizes the importance of FACA. FACA, when applicable, generally requires advisory committees to meet in open session and make publicly available associated written materials. It also requires a 15-day notice before any meeting may be closed to public attendance.

These requirements prevent the Department from convening on short notice a committee to discuss the sensitive and classified information surrounding the review of transatlantic aviation security threats in an appropriate setting. FACA contains a number of exceptions to its general disclosure rules, but the applicability of those exceptions are not sufficient to address the proper handling of classified material and the protection of classified information in this unique context. The information that will be discussed and reviewed by this committee will be deliberative in nature and will involve law enforcement sensitive, sensitive security and or classified national security information that, if discussed in public, would result in the unauthorized disclosure of information that could reasonably be expected to result in threats to national security. The release of this information would enable criminals and enemies to use that information to circumvent the law and could reasonably be expected to endanger the life or physical safety of individuals. Furthermore, some of the participants of the TAIR subgroups will be intelligence community (IC) personnel who cannot publicly disclose their identities or IC affiliations. Making the TAIR open to the public presents a significant security concern for revealing the identity and capabilities of the IC personnel.

Section 871 of the Homeland Security Act provides the Secretary of Homeland Security with the authority to establish advisory committees and exempt them from the FACA—6 U.S.C. 451(a). This authority allows the Department to freely and completely review, in a closed environment, the current threat environment in aviation, to discuss potential vulnerabilities, and to provide the Department with information and recommendations that could not otherwise be discussed in an open environment.

III. Exercise of Section 871 Authority To Establish the TAIR

The Department respects the principles of open government and has judiciously exercised the authority Congress provided in Section 871. Given that the use of this authority will allow the Department to fully and completely review the issues and make recommendations surrounding transatlantic aviation security as described above, the Department is invoking that authority in the creation of the TAIR.

Collaboration among the TAIR committee members must involve many activities to include: Planning, coordination, protective security implementation, operational activities related to protective service security measures, as well as vulnerabilities, protective measures, best practices, and lessons learned. An effective committee must be able to have ongoing, immediate, and multi-directional communication and coordination under highly exigent circumstances. In furtherance of DHS' mission to protect the homeland, the public interest requires the establishment of the TAIR under the authority of 6 U.S.C. 451. Members of the TAIR will engage and collaborate on matters and issues affecting transatlantic aviation security including global security improvement, information sharing, insider threat and cybersecurity and may provide policy advice and recommendations on such matters. The TAIR will interact with government officials from the U.S. and the U.K. and representatives from the private sector companies and stakeholders in the aviation sector. The TAIR has no authority to establish Federal policy or otherwise undertake inherently governmental functions. Exemption from the FACA (Pub. L. 92-463): In recognition of the highlysensitive, and often confidential or classified nature of the subject matter involved in the activities of the TAIR, under the authority of section 871 of the Homeland Security Act of 2002 (6 U.S.C. 451), the TAIR is hereby deemed exempt from the requirements of Public Law 92-463 (5 U.S.C. App.).

Membership: The TAIR is composed of members who are appointed by and serve at the pleasure of the DHS Secretary and the Home Secretary, as appropriate. Term length will be determined by the TAIR co-chairs. Members will minimally consist of government officials from the United States and the United Kingdom, and private sector transatlantic aviation industry representatives in order to leverage each other's subject matter expertise. Non-governmental members (or representative members) who serve on the TAIR or subgroups are appointed to express the viewpoint of non-governmental entities, recognizable groups, or stakeholders that have interests in the transatlantic aviation security subject matter. They will not serve as Special Government Employees (SGE), as defined in Title 18, United States Code, section 202(a).

TAIR may meet as whole or in any combination of subgroups that is most conducive to the effective conduct of its activities.

Duration: The TAIR is expected to continue operating until such time as the DHS Secretary or the Home Secretary decide to terminate TAIR. TAIR may continue beyond the initial two years from the date of its establishment whenever the DHS Secretary determines in writing to extend the TAIR, consistent with section 871(b) of The Homeland Security Act of 2002, 6. U.S.C. 451(b).

Dated: August 21, 2019.
Kevin K. McAleenan,
Acting Secretary.

Appendix A: Membership of the Transatlantic Aviation Industry Roundtable

TAIR Principal Members

○ U.S.:

DHS Secretary

DHS Under Secretary for Strategy, Policy, and Plans (PLCY)

Administrator, DHS Transportation Security Administration (TSA)

Commissioner, DHS Customs and Border Protection (CBP)

○ U.K.:

Home Secretary

Transport Secretary

Director General

Under Secretary

○ Private Sector:

CEOs transatlantic airlines

CEOs major international hub airports

CEOs air cargo carriers

Presidents or Executive Directors of Aviation Industry Associations

TAIR Steering Group

○ U.S.:

DHS Headquarters

• Office of Threat Prevention and Security Policy

• Office of International Affairs

• Private Sector Office, Office of Partnership and Engagement

• Office of Intelligence and Analysis

DHS Components

• Transportation Security Administration

• U.S. Customs and Border Protection

• Cybersecurity and Infrastructure Security Agency

○ U.K.:

Home Office (HO):

• Office for Security and Counter Terrorism (OSCT)

• Aviation Security (HO)

Department for Transport (DfT):

• Aviation Security

• International Policy

Joint Terrorism Analysis Centre (JTAC): Thematic Analysis

○ Private Sector:

Security Directors and representatives of transatlantic airlines

Security Directors and representatives of major international hub airports

Security Directors and representatives air cargo carriers

Representatives of Aviation Industry Associations

[FR Doc. 2019-19127 Filed 9-10-19; 8:45 am]

BILLING CODE 4410-10-P